DEPARTMENT OF DEFENSE

Department of the Navy

Notice of Deadline for Submission of Donation Application for the Aircraft Carrier ex-Saratoga (CV-60)

AGENCY: Department of the Navy, DOD.

ACTION: Notice.

SUMMARY: The Department of the Navy hereby gives notice of the deadline of April 17, 2001 for submission of a donation application for the Aircraft Carrier ex-Saratoga (CV-60) under the authority of 10 U.S.C. section 7306. Ex-Saratoga (CV-60) is located at the Naval Inactive Ship Maintenance Facility detachment, Naval Station, Newport, Rhode Island. Eligible recipients include: (1) Any State, Commonwealth, or possession of the United States or any municipal corporation or political subdivision thereof; (2) the District of Columbia; or, (3) any not-for-profit or nonprofit entity. Transfer of a vessel under this law shall be made at no cost to the United States. The transferee will be required to maintain the vessel in a condition satisfactory to the Secretary of the Navy as a static museum/memorial. Prospective transferees must submit a comprehensive, detailed application addressing their plans for managing the significant financial, technical, environmental, and curatorial responsibilities that accompany ships donated under this program.

FOR FURTHER INFORMATION CONTACT: Ms. Gloria Carvalho, Navy Ship Donation Program, Program Executive Office for Expeditionary Warfare (PEO EXW), PMS333, Inactive Ship Program Office, Naval Sea Systems Command, 2531 Jefferson Davis Highway, Arlington, VA 22242-5171, telephone number (703) 602-7098.

Dated: October 19, 2000.
J.L. Roth,
Lieutenant Commander, Judge Advocate General's Corps, U.S. Navy, Federal Register Liaison Officer.

[FR Doc. 00-27521 Filed 10-25-00; 8:45 am]

BILLING CODE 3810-FF-P